DEPARTMENT OF ENERGY

Federal Energy Regulatory Commission

Combined Notice Of Filings #1

November 21, 2005.

Take notice that the Commission received the following electric rate filings

Docket Numbers: ER03-9-004; ER03-9-005; ER98-2157-005; ER98-2157-006 EL05-64-000.

Applicants: Westar Energy, Inc. and Kansas Gas and Electric Company.

Description: Westar Energy, Inc and Kansas Gas and Electric Co submit response to FERC's 10/17/05 Information Request.

Filed Date: 11/15/2005.

Accession Number: 20051117-0014.

Comment Date: 5 p.m. eastern time on Tuesday, December 6, 2005.

Docket Numbers: ER05-1036-002.

Applicants: Midwest Independent Transmission System Operator, Inc.

Description: The Midwest Independent Transmission System Operator, Inc submits an errata to its 9/13/05 filing.

Filed Date: 11/14/2005.

Accession Number: 20051116-0185.

Comment Date: 5 p.m. eastern time on Monday, December 5, 2005.

Docket Numbers: ER05-1389-001.

Applicants: San Juan Mesa Project, LLC.

Description: San Juan Mesa Wind Project, LLC submits First Revised Sheet No. 1 et al to FERC Electric Tariff, Original Volume No. 1 to be effective 10/7/05 in compliance with FERC's 10/12/05.

Filed Date: 11/14/2005.

Accession Number: 20051116-0184.

Comment Date: 5 p.m. eastern time on Monday, December 5, 2005.

Docket Numbers: ER05-1439-001.

Applicants: Allegheny Energy Supply Company, LLC.

Description: Allgeheny Energy Supply Co, LLC submits its Full Requirements Service Agreement with West Penn Power Co.

Filed Date: 11/14/2005.

Accession Number: 20051116-0189.

Comment Date: 5 p.m. eastern time on Monday, December 5, 2005.

Docket Numbers: ER05-969-002.

Applicants: Midwest Independent Transmission System Operator, Inc.

Description: Midwest Independent Transmission System Operator, Inc submits an errata to its 9/13/05 compliance filing of a Large Generator Interconnection Agreement.

Filed Date: 11/14/2005.

Accession Number: 20051116-0193.

Comment Date: 5 p.m. eastern time on Monday, December 5, 2005.

Docket Numbers: ER06-200-000.

Applicants: Big Horn Wind Project LLC.

Description: Big Horn Wind Project LLC submits its initial rate schedule, a request for the granting of authorizations and blanket authority and for waiver of certain requirements.

Filed Date: 11/14/2005.

Accession Number: 20051115-0137.

Comment Date: 5 p.m. eastern time on Monday, December 5, 2005.

Docket Numbers: ER06-201-000.

Applicants: Southern California Edison Company.

Description: Southern Califoria Edison Co informs FERC of the purchase price of the Mountainview Power Co LLC-owned generation facility.

Filed Date: 11/14/2005

Accession Number: 20051115-0135.

Comment Date: 5 p.m. eastern time on Monday, December 5, 2005.

Docket Numbers: ER06-205-000.

Applicants: Alcoa Power Generating Inc.

Description: Alcoa Power Generating, Inc submits revisions to the open access transmission tariff of its Long Sault Division.

Filed Date: 11/14/2005.

Accession Number: 20051116-0106.

Comment Date: 5 p.m. eastern time on Monday, December 5, 2005.

Docket Numbers: ER06-206-000.

Applicants: Arizona Public Service Company.

Description: Arizona Public Service Co's notice of cancellation of their FERC Electric Rate Schedule No.170, to be effective 12/31/05.

Filed Date: 11/14/2005.

Accession Number: 20051116-0043.

Comment Date: 5 p.m. eastern time on Monday, December 5, 2005.

Docket Numbers: ER06-207-000.

Applicants: Xcel Energy Services, Inc.

Description: Xcel Energy Services, Inc, on behalf of Public Service Company of Colorado submits an Amended & Restated Agreement for Interconnection Service with Fountain Valley Power, LLC.

Filed Date: 11/14/2005.

Accession Number: 20051116-0042.

Comment Date: 5 p.m. eastern time on Monday, December 5, 2005.

Docket Numbers: ER06-208-000.

Applicants: Xcel Energy Services, Inc.

Description: Xcel Energy Services Inc on behalf of Public Service Co of Colorado submits an Amended & Restated Agreement for Interconnection Service with Black Hills Colorado, LLC.in reference to Original Agreement No. 164-PSCo.

Filed Date: 11/14/2005.

Accession Number: 20051116-0066.

Comment Date: 5 p.m. eastern time on Monday, December 5, 2005.

Docket Numbers: ER06-209-000.

Applicants: Xcel Energy Services, Inc.

Description: Xcel Energy Service, Inc submits on behalf of Public Service Company of Colorado its Amended & Restated Agreement for Interconnection Service with Black Hills Colorado, LLC. in reference to Original Agreement No. 163-PSCo.

Filed Date: 11/14/2005.

Accession Number: 20051116-0035.

Comment Date: 5 p.m. eastern time on Monday, December 5, 2005.

Docket Numbers: ER06-210-000.

Applicants: Xcel Energy Services, Inc.

Description: Xcel Energy Service Inc on behalf of Public Service Co of Colorado submits an amended & restated agreement for interconnection service with BIV Generation Co, LLC.

Filed Date: 11/14/2005.

Accession Number: 20051116-0033.

Comment Date: 5 p.m. eastern time on Monday, December 5, 2005.

Docket Numbers: ER06-211-000.

Applicants: Rayburn Country Electric Cooperative Inc.

Description: Rayburn Country Electric Coop, Inc notifies FERC that they are no longer a public utility as defined by the Federal Power Act, due to amendments to section 201(f) of the FPA.

Filed Date: 11/14/2005.

Accession Number: 20051116-0041.

Comment Date: 5 p.m. eastern time on Monday, December 5, 2005.

Docket Numbers: ER06-212-000.

Applicants: Wisconsin Electric Power Company.

Description: Wisconsin Electric Power Co submits proposed amendments to the Power Service Agreement with the City of Crystal Falls, Michigan.

Filed Date: 11/15/2005.

Accession Number: 20051116-0197.

Comment Date: 5 p.m. eastern time on Tuesday, December 6, 2005.

Docket Numbers: ER06-213-000.

Applicants: Southern Company Services, Inc.

Description: Southern Company Services, Inc., as agent for Alabama Power Co, submits notice of cancellation of Original Sheet Nos.1 through 168 of the Amended & Restated Agreement for partial requirements service & complementary service with Alabama Municipal Authority.

Filed Date: 11/15/2005.

Accession Number: 20051116-0183.

Comment Date: 5 p.m. eastern time on Tuesday, December 6, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-6630 Filed 11-28-05; 8:45 am]

BILLING CODE 6717-01-P